INTERNATIONAL TRADE COMMISSION

[Investigation Nos. 701-TA-449 and 731-TA-1118-1120 (Remand)]

Light-Walled Rectangular Pipe and Tube From China, Korea, and Mexico

AGENCY: United States International Trade Commission.

ACTION: Notice.

SUMMARY: The U.S. International Trade Commission (“Commission”) hereby gives notice that it is inviting the parties to the North American Free Trade Agreement (NAFTA) Chapter 19 panel proceeding in Light-Walled Rectangular Pipe and Tube from Mexico, USA-MEX-1904-04, to file comments in the remand proceeding ordered by the NAFTA binational panel. For further information concerning the conduct of this proceeding and rules of general application, consult the Commission's Rules of Practice and Procedure, part 201, subparts A through E (19 CFR part 201), and part 207, subpart A (19 CFR part 207).

DATES: Effective Date: Date of Publication in Federal Register.

FOR FURTHER INFORMATION CONTACT: David B. Fishberg (202-708-2614) or Andrea C. Casson (202-205-3105), Office of General Counsel, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of Investigation Nos. 701-TA-449 and 731-TA-1118-1120 may be viewed on the Commission's electronic docket (EDIS) at http://edis.usitc.gov.

SUPPLEMENTARY INFORMATION: Background.—In July 2008, the Commission determined that an industry in the United States was materially injured by reason of subsidized imports of light-walled rectangular pipe and tube (“LWR pipe and tube”) from China, and imports of LWR pipe and tube from China, Korea, and Mexico that were found to be sold at less than fair value. Nacional de Acero S. A. De C. V. subsequently challenged the Commission's determination concerning imports from Mexico, under the binational panel procedures set out in Chapter 19 of the North American Free Trade Agreement (“NAFTA”).

A NAFTA Panel issued an opinion in the matter on November 26, 2010. In its opinion, the Panel remanded the matter to the Commission with instructions that the Commission address:

(I) the relationship between the 2008 announced price increases and the pendency of the investigation, and

(II) the Complainant's attempt to rebut the presumption that any market changes in 2008 were the result of the filing of the petition and Commerce's preliminary affirmative determinations. In all other respects the Panel affirmed the Commission's opinion.

Participation in the proceeding.—Only those persons who were both interested parties to the original investigation (i.e., persons listed on the Commission Secretary's service list) and who participated in the NAFTA Chapter 19 panel proceeding may participate in the remand proceeding. Business proprietary information (“BPI”) referred to during the remand proceeding will be governed, as appropriate, by the administrative protective order issued in the original investigation.

Written Submissions.—The Commission is not reopening the record in this proceeding for submission of new factual information. The Commission will, however, permit parties to file comments pertaining to the issues on which the Panel has remanded this matter. These comments must be limited to the precise issues in the Panel's remand instructions quoted above, and must be based solely on the information already in the Commission's record and may not include additional factual information. The deadline for filing comments is January 7, 2011. Comments shall be limited to no more than ten (10) double-spaced and single-sided pages of textual material.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (November 8, 2002).

In accordance with sections 201.16(c) and 207.3 of the Commission's rules, each document filed by a party to the NAFTA Chapter 19 panel proceeding must be served on all other such parties, and a certificate of service must be timely filed. The Secretary will not accept a document for filing without a certificate of service.

By order of the Commission.
Issued: December 23, 2010.
Marilyn R. Abbott,
Secretary to the Commission.

[FR Doc. 2010-32776 Filed 12-28-10; 8:45 am]

BILLING CODE P